DEPARTMENT OF HOMELAND SECURITY

Coast Guard

[Docket No. USCG-2008-0991]

Proposed Modernization of the Coast Guard; Final Programmatic Environmental Assessment

AGENCY: Coast Guard, DHS.

ACTION: Notice of Availability of Final Programmatic Environmental Assessment and Finding of No Significant Impact.

SUMMARY: The Coast Guard announces the availability of the Final Programmatic Environmental Assessment (PEA) for Coast Guard modernization. Based on the PEA's analysis and the mitigation plan committed to in the PEA, the Coast Guard determined that an environmental impact statement is not required, and a Finding of No Significant Impact (FONSI) has been issued for the proposed action.

Availability: Electronic copies of the Final PEA and FONSI, as well as comments received on the Draft PEA and FONSI, are available from the Federal Docket Management Facility at Internet Web site address: http://www.regulations.gov using the docket number USCG-2008-0991.

FOR FURTHER INFORMATION CONTACT: If you have questions on this notice, please contact Ms. Kebby Kelley, USCG, telephone (202) 475-5690, e-mail: Kebby.Kelley@uscg.mil, or Mr. Frank Esposito, USCG, telephone (202) 372-3746, e-mail: Frank.H.Esposito@uscg.mil. If you have questions on viewing the docket, please call Ms. Renee Wright, Program Manager, Docket Operations, telephone (202) 366-9826.

SUPPLEMENTARY INFORMATION: In accordance with the National Environmental Policy Act of 1969, as implemented by the Council on Environmental Quality regulations (40 CFR parts 1500-1508), the Coast Guard prepared a Final PEA and FONSI for the Proposed Modernization of the Coast Guard.

Response to Comments

On August 15, 2008, the Coast Guard initiated a 30-day public comment period with publication of a Notice of Availability of the Proposed Modernization of the Coast Guard Draft PEA in the Federal Register (73 FR 47959). The Coast Guard received 23 public comments during this period.

Summary of Comments and the USCG Responses

Many of the 23 separate comments either acknowledged receipt or noted approval of the Coast Guard's modernization proposal. The remaining comments fell into the following four groups.

Several comments focused on the managerial philosophy and motivation of the Coast Guard in proposing this modernization. While these comments are useful to decision makers, they are not relevant to the environmental impact analyses associated with the proposed modernization and, therefore, will not be addressed in the Final PEA.

A second group of comments focused on decisions that are yet to be made, such as exact locations of possible new facilities or precise organizations that might or might not be moved. While these comments are also useful to decision makers, they are not yet ripe for further analysis and will not be considered further in the Final PEA. As stated in the Draft PEA, NEPA analysis and documentation may be prepared for future individual actions and their site-specific impacts if such actions are not adequately covered by this programmatic NEPA document.

The third group of comments advocated moving large segments of the Coast Guard to various new locations around the nation. These alternatives do not meet the purpose and need described in the PEA to minimize disruption to the workforce, minimize costs of modernization (such as, by utilizing existing facilities), and minimize disruption to mission execution. These proposals are, therefore, not evaluated in detail in the Final PEA.

Finally, a fourth group of comments was not addressed because it raised matters, such as the Deepwater Replacement contract, that are outside the scope of the Coast Guard modernization decision.

Background and Purpose

The Coast Guard intends to modernize its command structure, support systems, and business practices to position itself for sustainable and effective mission execution into the twenty-first century. The Coast Guard prepared a PEA that identified and examined the reasonable alternatives and assessed their potential environmental impacts. The PEA identified potential direct, indirect, and cumulative impacts associated with proposed modernization, including Coast Guard mission-related impacts and site-specific impacts.

The Coast Guard developed two action alternatives to achieve modernization, a full modernization alternative and a partial modernization alternative. These two alternatives represented the upper and lower levels of change required to achieve the purpose and need of the modernization and, therefore, captured the range of social, economic, and environmental impacts that would occur while implementing modernization initiatives. The full modernization alternative emphasizes co-location of mission support and operations resources and functions and included potential construction at the Coast Guard Yard, Curtis Bay, Maryland. The partial modernization alternative would focus on operating from existing locations rather than co-locating functional resources in a single location and includes no new construction. The partial modernization alternative would minimally achieve the purpose and need for modernization, while the full modernization alternative would allow the Coast Guard to reach the fully envisioned functionality of modernization. The Coast Guard prefers the full modernization alternative. Either modernization alternative would be implemented over at least 5 years.

The Coast Guard has determined that the mitigation committed to in the Final Coast Guard-prepared PEA will reduce all potentially significant environmental impacts to a level of insignificance. Thus, the Final PEA was determined to adequately and accurately discuss the environmental issues and impacts of the proposed action and provides sufficient evidence and analysis for determining that an environmental impact statement is not required. A Finding of No Significant Impact was, therefore, issued for the full modernization alternative which is the Coast Guard's preferred alternative.

Dated: September 24, 2008.
Clifford I. Pearson,
Vice Admiral, U.S. Coast Guard, Chief of Staff.

[FR Doc. E8-22934 Filed 9-29-08; 8:45 am]

BILLING CODE 4910-15-P